ENVIRONMENTAL PROTECTION AGENCY

40 CFR Part 180

[EPA-HQ-OPP-2011-0104; FRL-8883-9]

Atrazine, Chloroneb, Chlorpyrifos, Clofencet, Endosulfan, et al.; Tolerance Actions

AGENCY: Environmental Protection Agency (EPA).

ACTION: Final rule.

SUMMARY: EPA is revoking certain tolerances in follow-up to canceled uses for chloroneb, chlorpyrifos, clofencet, endosulfan, ethyl parathion, methidathion, methyl parathion, and N,N-diethyl-2-(4-methylbenzyloxy)ethylamine, modifying certain tolerances for atrazine, setting a revocation date for specific endosulfan tolerances, and making minor revisions to tolerance expressions for a few of the aforementioned pesticide ingredients. Also, EPA is removing expired tolerances for methidathion, and ethyl and methyl parathion.

DATES: This regulation is effective September 14, 2011. Objections and requests for hearings must be received on or before November 14, 2011, and must be filed in accordance with the instructions provided in 40 CFR part 178 (see also Unit I.C. of the SUPPLEMENTARY INFORMATION).

ADDRESSES: EPA has established a docket for this action under docket identification (ID) number EPA-HQ-OPP-2011-0104. All documents in the docket are listed in the docket index available at http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Joseph Nevola, Pesticide Re-evaluation Division (7508P), Office of Pesticide Programs, Environmental Protection Agency, 1200 Pennsylvania Ave., NW., Washington, DC 20460-0001; telephone number: (703) 308-8037; e-mail address: nevola.joseph@epa.gov.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How can I get electronic access to other related information?

You may access a frequently updated electronic version of 40 CFR part 180 through the Government Printing Office's e-CFR site at http://ecfr.gpoaccess.gov/cgi/t/text/text-idx?&c=ecfr&tpl=/ecfrbrowse/Title40/40tab_02.tpl.

C. How can I file an objection or hearing request?

Under the Federal Food, Drug, and Cosmetic Act (FFDCA) section 408(g), 21 U.S.C. 346a, any person may file an objection to any aspect of this regulation and may also request a hearing on those objections. You must file your objection or request a hearing on this regulation in accordance with the instructions provided in 40 CFR part 178. To ensure proper receipt by EPA, you must identify docket ID number EPA-HQ-OPP-2011- 0104 in the subject line on the first page of your submission. All objections and requests for a hearing must be in writing, and must be received by the Hearing Clerk on or before November 14, 2011. Addresses for mail and hand delivery of objections and hearing requests are provided in 40 CFR 178.25(b).

In addition to filing an objection or hearing request with the Hearing Clerk as described in 40 CFR part 178, please submit a copy of the filing that does not contain any CBI for inclusion in the public docket. Information not marked confidential pursuant to 40 CFR part 2 may be disclosed publicly by EPA without prior notice. Submit a copy of your non-CBI objection or hearing request, identified by docket ID number EPA-HQ-OPP-2011-0104, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

II. Background

A. What action is the agency taking?

In the Federal Register of May 4, 2011 (76 FR 25281) (FRL-8870-4), EPA issued a proposal to revoke certain tolerances in follow-up to canceled uses for chloroneb, chlorpyrifos, clofencet, endosulfan, ethyl parathion, methidathion, methyl parathion, and N,N-diethyl-2-(4-methylbenzyloxy)ethylamine, modify certain tolerances for atrazine, set a revocation date for specific endosulfan tolerances, make minor revisions to tolerance expressions, in accordance with current Agency practice to describe more clearly the measurement and scope or coverage of the tolerances, including applicable metabolites and degradates, for chloroneb, clofencet, endosulfan, methidathion, and methyl parathion, remove expired tolerances for methidathion, methyl parathion, and ethyl parathion, and revise the tolerance nomenclature for a specific atrazine tolerance. Also, the proposal of May 4, 2011 (76 FR 25281) provided a 60-day comment period which invited public comment for consideration and for support of tolerance retention under FFDCA standards.

In this final rule, EPA is revoking tolerances for residues of chloroneb, chlorpyrifos, clofencet, endosulfan, ethyl parathion, methidathion, methyl parathion, and N,N-diethyl-2-(4-methylbenzyloxy)ethylamine, modifying specific tolerances for atrazine, and setting a revocation date for specific endosulfan tolerances. Also, EPA is making minor revisions to tolerance expressions for chloroneb, clofencet, endosulfan, methidathion, and methyl parathion, removing expired tolerances for methidathion, methyl parathion, and ethyl parathion, and revising the tolerance nomenclature for a specific atrazine tolerance.

EPA is finalizing these tolerance actions in order to follow-up on canceled uses of chloroneb, chlorpyrifos, clofencet, N,N-diethyl-2-(4-methylbenzyloxy)ethylamine, endosulfan, ethyl parathion, methidathion, and methyl parathion, and modifying certain tolerances as recommended in the atrazine Reregistration Eligibility Decision (RED) of 2006. As part of the tolerance reassessment process, EPA is required to determine whether each of the amended tolerances meets the safety standard of FFDCA. The safety finding determination of “reasonable certainty of no harm” is discussed in detail in each Reregistration Eligibility Decision (RED) and Report on FQPA Tolerance Reassessment Progress and Interim Risk Management Decision (TRED) for the active ingredient. REDs and TREDs recommend the implementation of certain tolerance actions, including modifications, to reflect current use patterns, to meet safety findings and change commodity names and groupings in accordance with new EPA policy. Printed copies of many REDs and TREDs may be obtained from EPA's National Service Center for Environmental Publications (EPA/NSCEP), P.O. Box 42419, Cincinnati, OH 45242-2419; telephone number: 1-800-490-9198; fax number: 1-513-489-8695; Internet at http://www.epa.gov/ncepihom and from the National Technical Information Service (NTIS), 5285 Port Royal Rd., Springfield, VA 22161; telephone number: 1-800-553-6847 or (703) 605-6000; Internet at http://www.ntis.gov. An electronic copy is available on the Internet for the atrazine RED at http://www.epa.gov/pesticides/reregistration/status.htm.

In this final rule, EPA is revoking certain tolerances and/or tolerance exemptions because either they are no longer needed or are associated with food uses that are no longer registered under the Federal Insecticide, Fungicide, and Rodenticide Act (FIFRA) in the United States. Those instances where registrations were canceled were because the registrant failed to pay the required maintenance fee and/or the registrant voluntarily requested cancellation of one or more registered uses of the pesticide active ingredient. The tolerances revoked by this final rule are no longer necessary to cover residues of the relevant pesticides in or on domestically treated commodities or commodities treated outside but imported into the United States. It is EPA's general practice to issue a final rule revoking those tolerances and tolerance exemptions for residues of pesticide active ingredients on crop uses for which there are no active registrations under FIFRA, unless any person in comments on the proposal indicates a need for the tolerance or tolerance exemption to cover residues in or on imported commodities or legally treated domestic commodities.

EPA has historically been concerned that retention of tolerances that are not necessary to cover residues in or on legally treated foods may encourage misuse of pesticides within the United States.

Generally, EPA will proceed with the revocation of these tolerances on the grounds discussed in Unit II.A. if one of the following conditions applies:

1. Prior to EPA's issuance of a FFDCA section 408(f) order requesting additional data or issuance of a FFDCA section 408(d) or (e) order revoking the tolerances on other grounds, commenter retracts the comment identifying a need for the tolerance to be retained.

2. EPA independently verifies that the tolerance is no longer needed.

3. The tolerance is not supported by data that demonstrate that the tolerance meets the requirements under the Food Quality Protection Act (FQPA).

In response to the proposal published in the Federal Register of May 4, 2011 (76 FR 25281), EPA received comments during the 60-day public comment period, as follows:

General—i. Comment by private citizen. An anonymous comment was received which expressed concerns about pesticides on food and that only zero tolerance levels should be acceptable.

Agency response. The commenter did not take issue with any of the Agency's specific conclusions to modify, revoke, or set a revocation date for certain tolerances. Also, the commenter did not refer to any specific studies which pertain to those conclusions. The Agency has not changed its previous determination that the tolerances in question are safe.

1. Methidathion—Comment by Gowan Company. Gowan requested that the expiration/revocation date regarding each tolerance for residues of methidathion on citrus, oil; fruit, citrus, group 10, except tangerine; fruit, pome, group 11; fruit, stone, group 12; and tangerine be extended from December 31, 2016 until December 31, 2018 in order to allow treated commodities, such as frozen commodities that can be stored longer, to clear the channels of trade.

Agency response. In the Federal Register of May 4, 2011 (76 FR 25281), EPA proposed to revoke specific tolerances for residues of methidathion in 40 CFR 180.298(a) and included the tolerances on citrus, oil; fruit, citrus, group 10, except tangerine; fruit, pome, group 11; fruit, stone, group 12; and tangerine, each proposed with an expiration/revocation date of December 31, 2016, among other tolerance actions proposed for methidathion. As stated in Unit II.C. of the May 4, 2011 document, commodities treated with pesticides that are in the channels of trade following tolerance revocation are subject to FFDCA section 408(l)(5). Under this section, any residues of pesticides in or on such food shall not render the food adulterated so long as it is shown to the satisfaction of the Food and Drug Administration that the residue is present as the result of an application or use of the pesticide at a time and in a manner that was lawful under FIFRA and the residue does not exceed the level that was authorized at the time of the application or use to be present on the food under a tolerance or exemption from a tolerance. Evidence to show that food was lawfully treated may include records that verify the dates that the pesticide was applied to such food. Therefore, the revocation date for these tolerances remains December 31, 2016. In addition, EPA is finalizing all other amendments (including all other tolerance revocations) proposed concerning methidathion in the Federal Register of May 4, 2011 (76 FR 25281).

2. Atrazine—Comment by private citizen. The commenter expressed concerns about developmental and toxicological risks to frogs in the United States and the potential risks of atrazine exposure. The commenter requested that as part of the Agency's review of atrazine, it should reevaluate the impacts of atrazine on frogs.

Agency response. The commenter's concerns regarding potential ecological effects of atrazine are not germane to tolerance setting under FFDCA. Also, the commenter did not take issue with any of the Agency's specific conclusions to decrease the atrazine tolerances on corn, field, forage; sorghum, forage, forage; and sorghum, grain forage (and revise it to sorghum, grain, forage) based on the available field trial data. The commenter did not refer to any specific studies which pertain to those conclusions about decreasing the 3 specific tolerances aforementioned. EPA has determined that the proposed tolerance levels meet the safety standard of FFDCA section 408(b). Consequently, EPA is decreasing the tolerances in 40 CFR 180.220(a) on corn, field, forage to 1.5 ppm; sorghum, forage, forage to 0.25 ppm; and sorghum, grain forage to 0.25 ppm, and revising sorghum, grain forage to sorghum, grain, forage.

The Agency did not receive any specific comments, during the 60-day comment period, on the following pesticide active ingredients: Chloroneb, chlorpyrifos, clofencet, endosulfan, ethyl parathion, methyl parathion, and N,N-diethyl-2-(4-methylbenzyloxy) ethylamine. Therefore, EPA is finalizing the amendments proposed concerning these pesticide active ingredients in the Federal Register of May 4, 2011 (76 FR 25281). For a detailed discussion of the Agency's rationale for the finalized tolerance actions, refer to the proposed rule of May 4, 2011.

B. What is the Agency's authority for taking this action?

EPA may issue a regulation establishing, modifying, or revoking a tolerance under FFDCA section 408(e). In this final rule, EPA is revoking, modifying, and setting a revocation date for specific tolerances to implement the tolerance recommendations made during the reregistration and tolerance reassessment processes, and as follow-up on canceled uses of pesticides. As part of these processes, EPA is required to determine whether each of the amended tolerances meets the safety standards under FFDCA. The safety finding determination is found in detail in each post-FQPA RED and TRED for the active ingredient. REDs and TREDs recommend the implementation of certain tolerance actions, including modifications to reflect current use patterns, to meet safety findings, and change commodity names and groupings in accordance with new EPA policy. Printed and electronic copies of the REDs and TREDs are available as provided in Unit II.A.

EPA issued a RED for atrazine and among its tolerance recommendations, it stated that certain tolerances should be modified. REDs and TREDs contain the Agency's evaluation of the database for these pesticides, including statements regarding additional data on the active ingredients that may be needed to confirm the potential human health and environmental risk assessments associated with current product uses, and REDs state conditions under which these uses and products will be eligible for reregistration. The REDs and TREDs recommended the establishment, modification, and/or revocation of specific tolerances. RED and TRED recommendations such as establishing or modifying tolerances, and in some cases revoking tolerances, are the result of assessment under the FFDCA standard of “reasonable certainty of no harm.” However, tolerance revocations recommended in REDs and TREDs that are made final in this document do not need such assessment when the tolerances are no longer necessary.

EPA's general practice is to revoke tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

C. When do these actions become effective?

As stated in the DATES section, this regulation is effective on the date of publication in the Federal Register. In this final rule, EPA is revoking certain tolerances for chloroneb, clofencet, endosulfan, methidathion, and methyl parathion with specific expiration/revocation dates, and setting a revocation date for specific endosulfan tolerances. EPA is revoking certain tolerances for chlorpyrifos, endosulfan, ethyl parathion, methyl parathion, and N,N-diethyl-2-(4-methylbenzyloxy) ethylamine, modifying certain tolerances for atrazine, revising a single tolerance nomenclature, revising certain tolerance expressions, and removing certain expired tolerances on the date of publication of this final rule in the Federal Register. With the exception of the aforementioned tolerances for which EPA is revoking with expiration/revocation dates or setting a revocation date for specific endosulfan tolerances, the Agency believes that existing stocks of pesticide products labeled for the uses associated with the revoked tolerances have been completely exhausted and that treated commodities have had sufficient time for passage through the channels of trade. As proposed in the May 4, 2011 document, EPA is revoking specific chloroneb, clofencet, endosulfan, methidathion, and methyl parathion (except for peanut) tolerances with expiration/revocation dates of April 16, 2012, July 14, 2012, various dates, December 31, 2016, and December 31, 2013. The Agency believes that these revocation dates allow users to exhaust stocks and allow sufficient time for passage of treated commodities through the channels of trade. Also, in the cases of endosulfan and methyl parathion, these revocation dates are also consistent with a Memorandum of Agreement between the registrants and the Agency.

Any commodities listed in the regulatory text of this document that are treated with the pesticides subject to this final rule, and that are in the channels of trade following the tolerance revocations, shall be subject to FFDCA section 408(l)(5), as established by FQPA. Under this unit, any residues of these pesticides in or on such food shall not render the food adulterated so long as it is shown to the satisfaction of the Food and Drug Administration that:

1. The residue is present as the result of an application or use of the pesticide at a time and in a manner that was lawful under FIFRA.

2. The residue does not exceed the level that was authorized at the time of the application or use to be present on the food under a tolerance or exemption from tolerance. Evidence to show that food was lawfully treated may include records that verify the dates that the pesticide was applied to such food.

III. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). The Codex Alimentarius is a joint U.N. Food and Agriculture Organization/World Health Organization food standards program, and it is recognized as an international food safety standards-setting organization in trade agreements to which the United States is a party. EPA may establish a tolerance that is different from a Codex MRL; however, FFDCA section 408(b)(4) requires that EPA explain the reasons for departing from the Codex level.

The Codex has not established a MRL for atrazine, chloroneb, clofencet, N,N-diethyl-2-(4-methylbenzyloxy)ethylamine, ethyl parathion, or MRL on lettuce for chlorpyrifos.

The Codex has established MRLs for endosulfan in or on various commodities including melons, except watermelon at 2 mg/kg and tea, green, black at 30 mg/kg. These MRLs are different than the tolerances established for endosulfan in the United States because of differences in use patterns and/or good agricultural practices.

The Codex has established MRLs for methidathion in or on various commodities including apple at 0.5 mg/kg; cherries at 0.2 mg/kg; cottonseed at 1 mg/kg; nectarine at 0.2 mg/kg; olives at 1 mg/kg; peach at 0.2 mg/kg; pear at 1 mg/kg; and plums (including prunes) at 0.2 mg/kg. These MRLs are different than the tolerances established for methidathion in the United States because of differences in use patterns and/or good agricultural practices.

The Codex has established MRLs for methyl parathion (parathion-methyl) in or on various commodities including potato at 0.05 mg/kg. The MRL is different than the tolerance established for methyl parathion in the United States because of differences in use patterns and/or good agricultural practices.

IV. Statutory and Executive Order Reviews

In this final rule, EPA is revoking, modifying, and setting a revocation date for specific tolerances under FFDCA section 408. The Office of Management and Budget (OMB) has exempted these types of actions (e.g., modification and establishment of a tolerance and tolerance revocation for which extraordinary circumstances do not exist) from review under Executive Order 12866, entitled Regulatory Planning and Review (58 FR 51735, October 4, 1993). Because this rule has been exempted from review under Executive Order 12866 due to its lack of significance, this rule is not subject to Executive Order 13211, entitled Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Pub. L. 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-13, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020) (FRL-5753-1), respectively, and were provided to the Chief Counsel for Advocacy of the Small Business Administration. Taking into account this analysis, and available information concerning the pesticides listed in this rule, the Agency hereby certifies that this final rule will not have a significant economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of the proposed rule, as mentioned in Unit II.A.). Furthermore, for the pesticides named in this final rule, the Agency knows of no extraordinary circumstances that exist as to the present revocations that would change EPA's previous analysis. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This final rule directly regulates growers, food processors, food handlers, and food retailers, not States. This action does not alter the relationships or distribution of power and responsibilities established by Congress in the preemption provisions of section 408(n)(4) of FFDCA. For these same reasons, the Agency has determined that this rule does not have any “tribal implications” as described in Executive Order 13175, entitled Consultation and Coordination with Indian Tribal Governments (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This rule will not have substantial direct effects on tribal governments, on the relationship between the Federal Government and Indian tribes, or on the distribution of power and responsibilities between the Federal Government and Indian tribes, as specified in Executive Order 13175. Thus, Executive Order 13175 does not apply to this rule.

V. Congressional Review Act

The Congressional Review Act, 5 U.S.C. 801 et seq., generally provides that before a rule may take effect, the agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: September 6, 2011.
Steven Bradbury,
Director, Office of Pesticide Programs.

Therefore, 40 CFR chapter I is amended as follows:

PART 180—[AMENDED]

1. The authority citation for part 180 continues to read as follows:

Authority: 21 U.S.C. 321(q), 346a and 371.

2. Section 180.121 is amended by revising paragraph (a) to read as follows:

§ 180.121 Methyl parathion; tolerances for residues.

(a) General. Tolerances are established for residues of the insecticide methyl parathion, including its metabolites and degradates, in or on the commodities in the table in this paragraph. Compliance with the tolerance levels specified in this paragraph is to be determined by measuring only methyl parathion, O,O-dimethyl O-(4-nitrophenyl) phosphorothioate, in or on the commodity.

Commodity | Parts per million | Expiration/ Revocation date
Alfalfa, forage | 1.25 | 12/31/13
Alfalfa, hay | 5.0 | 12/31/13
Almond | 0.1 | 12/31/13
Almond, hulls | 3.0 | 12/31/13
Barley | 1.0 | 12/31/13
Corn, field, forage | 1.0 | 12/31/13
Corn, field, grain | 1.0 | 12/31/13
Corn, pop, grain | 1.0 | 12/31/13
Corn, sweet, forage | 1.0 | 12/31/13
Corn, sweet, kernel plus cob with husks removed | 1.0 | 12/31/13
Cotton, undelinted seed | 0.75 | 12/31/13
Grass, forage | 1.0 | 12/31/13
Oat | 1.0 | 12/31/13
Onion | 1.0 | 12/31/13
Pea, field, vines | 1.0 | 12/31/13
Potato | 0.1 | 12/31/13
Rapeseed, seed | 0.2 | 12/31/13
Rice, grain | 1.0 | 12/31/13
Soybean, hay | 1.0 | 12/31/13
Soybean, seed | 0.1 | 12/31/13
Sunflower, seed | 0.2 | 12/31/13
Sweet potato, roots | 0.1 | 12/31/13
Walnut | 0.1 | 12/31/13
Wheat | 1.0 | 12/31/13

* * * * *

§ 180.122 [Removed]

3. Section 180.122 is removed.

4. Section 180.182 is amended by revising paragraphs (a) and (c) to read as follows:

§ 180.182 Endosulfan; tolerances for residues.

(a) General. Tolerances are established for residues of the insecticide endosulfan, including its metabolites and degradates, in or on the commodities in the table in this paragraph. Compliance with the tolerance levels specified in this paragraph is to be determined by measuring only the sum of endosulfan, 6,7,8,9,10,10-hexachloro-1,5,5a,6,9,9a-hexahydro-6,9-methano-2,4,3-benzodioxathiepin 3-oxide (alpha and beta isomers), and its metabolite endosulfan sulfate, 6,7,8,9,10,10-hexachloro-1,5,5a,6,9,9a-hexahydro-6,9-methano-2,4,3-benzodioxathiepin-3,3-dioxide, calculated as the stoichiometric equivalent of endosulfan, in or on the commodity.

Commodity | Parts per million | Expiration/ revocation date
Almond | 0.3 | 7/31/12
Almond, hulls | 1.0 | 7/31/12
Apricot | 2.0 | 7/31/12
Bean | 2.0 | 7/31/12
Broccoli | 3.0 | 7/31/12
Brussels sprouts | 2.0 | 7/31/12
Cabbage | 4.0 | 7/31/12
Cantaloupe | 1.0 | 7/31/12
Carrot, roots | 0.2 | 7/31/12
Cattle, fat | 13.0 | 7/31/16
Cattle, liver | 5.0 | 7/31/16
Cattle, meat | 2.0 | 7/31/16
Cattle, meat byproducts, except liver | 1.0 | 7/31/16
Cauliflower | 2.0 | 7/31/12
Celery | 8.0 | 7/31/12
Cherry, sweet | 2.0 | 7/31/12
Cherry, tart | 2.0 | 7/31/12
Collards | 2.0 | 7/31/12
Cotton, gin byproducts | 30.0 | 7/31/12
Cotton, undelinted seed | 1.0 | 7/31/12
Cucumber | 1.0 | 7/31/12
Eggplant | 1.0 | 7/31/12
Goat, fat | 13.0 | 7/31/16
Goat, liver | 5.0 | 7/31/16
Goat, meat | 2.0 | 7/31/16
Goat, meat byproducts, except liver | 1.0 | 7/31/16
Hazelnut | 0.2 | 7/31/12
Hog, fat | 13.0 | 7/31/16
Hog, liver | 5.0 | 7/31/16
Hog, meat | 2.0 | 7/31/16
Hog, meat byproducts, except liver | 1.0 | 7/31/16
Horse, fat | 13.0 | 7/31/16
Horse, liver | 5.0 | 7/31/16
Horse, meat | 2.0 | 7/31/16
Horse, meat byproducts, except liver | 1.0 | 7/31/16
Kale | 2.0 | 7/31/12
Lettuce, head | 11.0 | 7/31/12
Lettuce, leaf | 6.0 | 7/31/12
Milk, fat | 2.0 | 7/31/16
Muskmelon | 1.0 | 7/31/12
Mustard greens | 2.0 | 7/31/12
Mustard, seed | 0.2 | 7/31/12
Nectarine | 2.0 | 7/31/12
Nut, macadamia | 0.2 | 7/31/12
Peach | 2.0 | 7/31/12
Pear | 2.0 | 7/31/13
Pineapple | 1.0 | 7/31/16
Pineapple, process residue | 20.0 | 7/31/16
Plum | 2.0 | 7/31/12
Plum, prune | 2.0 | 7/31/12
Sheep, fat | 13.0 | 7/31/16
Sheep, liver | 5.0 | 7/31/16
Sheep, meat | 2.0 | 7/31/16
Sheep, meat byproducts, except liver | 1.0 | 7/31/16
Squash, summer | 1.0 | 7/31/12
Strawberry | 2.0 | 7/31/16
Sweet potato, roots | 0.15 | 7/31/12
Walnut | 0.2 | 7/31/12
Watermelon | 1.0 | 7/31/12

* * * * *

(c) Tolerances with regional registrations. (1) Tolerances with regional registration, as defined in § 180.1(l), are established for residues of the insecticide endosulfan, including its metabolites and degradates, in or on the commodities in the table in this paragraph, when endosulfan is used in the state of Florida. Compliance with the tolerance levels specified in this paragraph is to be determined by measuring only the sum of endosulfan, 6,7,8,9,10,10-hexachloro-1,5,5a,6,9,9a-hexahydro-6,9-methano-2,4,3-benzodioxathiepin 3-oxide (alpha and beta isomers), and its metabolite endosulfan sulfate, 6,7,8,9,10,10-hexachloro-1,5,5a,6,9,9a-hexahydro-6,9-methano-2,4,3-benzodioxathiepin-3,3-dioxide, calculated as the stoichiometric equivalent of endosulfan, in or on the commodity.

Commodity | Parts per million | Expiration/ revocation date
Apple | 1.0 | 12/31/14
Apple, wet pomace | 5.0 | 12/31/14
Blueberry | 0.3 | 12/31/14
Corn, sweet, forage | 12.0 | 12/31/14
Corn, sweet, kernel plus cob with husks removed | 0.2 | 12/31/14
Corn, sweet, stover | 14.0 | 12/31/14
Pepper | 2.0 | 12/31/14
Potato | 0.2 | 12/31/14
Pumpkin | 1.0 | 12/31/14
Squash, winter | 1.0 | 12/31/14
Tomato | 1.0 | 12/31/14

(2) Tolerances with regional registrations. Tolerances with regional registration, as defined in § 180.1(l), are established for residues of the insecticide endosulfan, including its metabolites and degradates, in or on the commodities in the table in this paragraph, when endosulfan is used in the United States (except Florida). Compliance with the tolerance levels specified in this paragraph is to be determined by measuring only the sum of endosulfan, 6,7,8,9,10,10-hexachloro-1,5,5a,6,9,9a-hexahydro-6,9-methano-2,4,3-benzodioxathiepin 3-oxide (alpha and beta isomers), and its metabolite endosulfan sulfate, 6,7,8,9,10,10-hexachloro-1,5,5a,6,9,9a-hexahydro-6,9-methano-2,4,3-benzodioxathiepin-3,3-dioxide, calculated as the stoichiometric equivalent of endosulfan, in or on the commodity.

Commodity | Parts per million | Expiration/ revocation date
Apple | 1.0 | 7/31/15
Apple, wet pomace | 5.0 | 7/31/15
Blueberry | 0.3 | 7/31/15
Corn, sweet, forage | 12.0 | 7/31/15
Corn, sweet, kernel plus cob with husks removed | 0.2 | 7/31/15
Corn, sweet, stover | 14.0 | 7/31/15
Pepper | 2.0 | 7/31/15
Potato | 0.2 | 7/31/15
Pumpkin | 1.0 | 7/31/15
Squash, winter | 1.0 | 7/31/15
Tomato | 1.0 | 7/31/15

* * * * *

5. Section 180.220 is amended by revising the table in paragraph (a) to read as follows:

§ 180.220 Atrazine; tolerances for residues.

(a) * * *

Commodity | Parts per million
Cattle, fat | 0.02
Cattle, meat | 0.02
Cattle, meat byproducts | 0.02
Corn, field, forage | 1.5
Corn, field, grain | 0.20
Corn, field, stover | 0.5
Corn, pop, forage | 1.5
Corn, pop, grain | 0.20
Corn, pop, stover | 0.5
Corn, sweet, forage | 15
Corn, sweet, kernel plus cob with husks removed | 0.20
Corn, sweet, stover | 2.0
Goat, fat | 0.02
Goat, meat | 0.02
Goat, meat byproducts | 0.02
Grass, forage | 4.0
Grass, hay | 4.0
Guava | 0.05
Horse, fat | 0.02
Horse, meat | 0.02
Horse, meat byproducts | 0.02
Milk | 0.02
Nut, macadamia | 0.20
Sheep, fat | 0.02
Sheep, meat | 0.02
Sheep, meat byproducts | 0.02
Sorghum, forage, forage | 0.25
Sorghum, grain, forage | 0.25
Sorghum, grain, grain | 0.20
Sorghum, grain, stover | 0.50
Sugarcane, cane | 0.20
Wheat, forage | 1.5
Wheat, grain | 0.10
Wheat, hay | 5.0
Wheat, straw | 0.50

* * * * *

6. Section 180.257 is amended by revising paragraph (a) to read as follows:

§ 180.257 Chloroneb; tolerances for residues.

(a) General. Tolerances are established for residues of the fungicide chloroneb, including its metabolites and degradates, in or on the commodities in the table in this paragraph. Compliance with the tolerance levels specified in this paragraph is to be determined by measuring only the sum of chloroneb, 1,4-dichloro-2,5-dimethoxybenzene, and its metabolite 2,5-dichloro-4-methoxyphenol (free and conjugated), calculated as the stoichiometric equivalent of chloroneb, in or on the commodity.

Commodity | Parts per million | Expiration/ revocation date
Bean, dry, seed | 0.2 | 4/16/12
Bean, succulent | 0.2 | 4/16/12
Beet, sugar, roots | 0.2 | 4/16/12
Beet, sugar, tops | 0.2 | 4/16/12
Cowpea, forage | 2.0 | 4/16/12
Cowpea, hay | 2.0 | 4/16/12
Cattle, fat | 0.2 | 4/16/12
Cattle, meat | 0.2 | 4/16/12
Cattle, meat byproducts | 0.2 | 4/16/12
Cotton, gin byproducts | 1.0 | 4/16/12
Cotton, undelinted seed | 0.2 | 4/16/12
Goat, fat | 0.2 | 4/16/12
Goat, meat | 0.2 | 4/16/12
Goat, meat byproducts | 0.2 | 4/16/12
Hog, fat | 0.2 | 4/16/12
Hog, meat | 0.2 | 4/16/12
Hog, meat byproducts | 0.2 | 4/16/12
Horse, fat | 0.2 | 4/16/12
Horse, meat | 0.2 | 4/16/12
Horse, meat byproducts | 0.2 | 4/16/12
Milk | 0.05 | 4/16/12
Sheep, fat | 0.2 | 4/16/12
Sheep, meat | 0.2 | 4/16/12
Sheep, meat byproducts | 0.2 | 4/16/12
Soybean, forage | 2.0 | 4/16/12
Soybean, hay | 2.0 | 4/16/12
Soybean, seed | 0.2 | 4/16/12

* * * * *

7. Section 180.298 is amended by revising paragraphs (a) and (c) to read as follows:

§ 180.298 Methidathion; tolerances for residues.

(a) General. Tolerances are established for residues of the insecticide methidathion, including its metabolites and degradates, in or on the commodities in the table in this paragraph. Compliance with the tolerance levels specified in this paragraph is to be determined by measuring only methidathion, S-[(5-methoxy-2-oxo-1,3,4-thiadiazol-3(2H)-yl)methyl] O,O-dimethyl phosphorodithioate, in or on the commodity.

Commodity | Parts per million | Expiration/revocation date
Almond, hulls | 6.0 | 12/31/16
Artichoke, globe | 0.05 | 12/31/16
Citrus, oil | 420.0 | 12/31/16
Cotton, undelinted seed | 0.2 | 12/31/16
Fruit, citrus, group 10, except tangerine | 4.0 | 12/31/16
Fruit, pome, group 11 | 0.05 | 12/31/16
Fruit, stone, group 12 | 0.05 | 12/31/16
Mango | 0.05 | 12/31/16
Nut, tree, group 14 | 0.05 | 12/31/16
Olive | 0.05 | 12/31/16
Safflower, seed | 0.5 | 12/31/16
Sorghum, forage, forage | 2.0 | 12/31/16
Sorghum, grain, forage | 2.0 | 12/31/16
Sorghum, grain, grain | 0.2 | 12/31/16
Sorghum, grain, stover | 2.0 | 12/31/16
Sunflower, seed | 0.5 | 12/31/16
Tangerine | 6.0 | 12/31/16

* * * * *

(c) Tolerances with regional registrations. Tolerances with regional registration, as defined in § 180.1(l), are established for residues of the insecticide methidathion, including its metabolites and degradates, in or on the commodities in the table in this paragraph. Compliance with the tolerance levels specified in this paragraph is to be determined by measuring only methidathion, S-[(5-methoxy-2-oxo-1,3,4-thiadiazol-3(2H)-yl)methyl] O,O-dimethyl phosphorodithioate, in or on the commodity.

Commodity | Parts per million | Expiration/ revocation date
Kiwifruit | 0.1 | 12/31/16
Longan | 0.1 | 12/31/16
Starfruit | 0.1 | 12/31/16
Sugar apple | 0.2 | 12/31/16

* * * * *

8. Section 180.319 is revised to read as follows:

§ 180.319 Interim tolerances.

(a) General. While petitions for tolerances for negligible residues are pending and until action is completed on these petitions, interim tolerances are established for residues of the listed pesticide chemicals in or on the following raw agricultural commodities:

Substances | Uses | Tolerance in parts per million | Raw agricultural commodity | Expiration/ revocation date
Coordination product of zinc ion and maneb | Fungicide | 1.0 (Calculated as zinc ethylene-bisdithio-carbamate) | Potato | None.
Endothall (7-oxabicyclo-(2,2,1) heptane 2,3-dicarboxylic acid | Herbicide | 0.2 | Beet, sugar | None.
Isopropyl carbanilate (IPC) | Herbicide | 5.0 | Alfalfa, hay; clover, hay; and grass, hay | None.
|  | 2.0 | Alfalfa, forage; clover, forage; and grass, forage | None.
|  | 0.1 | Flax, seed; lentil; lettuce, head; lettuce, leaf; pea; safflower, seed; spinach; beet, sugar, roots; and beet, sugar, tops | None.
|  | 0.5 | Egg; cattle, fat; cattle, meat; cattle, meat byproducts; goat, fat; goat, meat; goat, meat byproducts; hog, fat; hog, meat; hog, meat byproducts; horse, fat; horse, meat; horse, meat byproducts; milk; sheep, fat; sheep, meat; sheep, meat byproducts; poultry, fat; poultry, meat; and poultry, meat byproducts | None.
Methyl parathion | Herbicide | 0.5 | Rye | 12/31/13.

(b) Section 18 emergency exemptions. [Reserved]

(c) Tolerances with regional registrations. [Reserved]

(d) Indirect or inadvertent residues. [Reserved]

§ 180.342 [Amended]

9. Section 180.342 is amended by removing the entry for “lettuce” from the table in paragraph (a)(1).

10. Section 180.497 is revised to read as follows:

§ 180.497 Clofencet; tolerances for residues.

(a) General. Tolerances are established for residues of the plant growth regulator (hybridizing agent) clofencet, including its metabolites and degradates, in or on the commodities in the table in this paragraph. Compliance with the tolerance levels specified in this paragraph is to be determined by measuring only clofencet, potassium 2-(4-chlorophenyl)-3-ethyl-2,5-dihydro-5-oxo-4-pyridazinecarboxylate, expressed as the free acid, in or on the commodity.

Commodity | Parts per million | Expiration/ revocation date
Cattle, fat | 0.04 | 7/14/12
Cattle, kidney | 10.0 | 7/14/12
Cattle, meat | 0.15 | 7/14/12
Cattle, meat byproducts, except kidney | 0.5 | 7/14/12
Egg | 1.0 | 7/14/12
Goat, fat | 0.04 | 7/14/12
Goat, kidney | 10.0 | 7/14/12
Goat, meat | 0.15 | 7/14/12
Goat, meat byproducts, except kidney | 0.5 | 7/14/12
Hog, fat | 0.04 | 7/14/12
Hog, kidney | 10.0 | 7/14/12
Hog, meat | 0.15 | 7/14/12
Hog, meat byproducts, except kidney | 0.5 | 7/14/12
Horse, fat | 0.04 | 7/14/12
Horse, kidney | 10.0 | 7/14/12
Horse, meat | 0.15 | 7/14/12
Horse, meat byproducts, except kidney | 0.5 | 7/14/12
Milk | 0.02 | 7/14/12
Poultry, fat | 0.04 | 7/14/12
Poultry, meat | 0.15 | 7/14/12
Poultry, meat byproducts | 0.20 | 7/14/12
Sheep, fat | 0.04 | 7/14/12
Sheep, kidney | 10.0 | 7/14/12
Sheep, meat | 0.15 | 7/14/12
Sheep, meat byproducts, except kidney | 0.5 | 7/14/12
Wheat, forage | 10.0 | 7/14/12
Wheat, grain | 250.0 | 7/14/12
Wheat, hay | 40.0 | 7/14/12
Wheat, straw | 50.0 | 7/14/12

(b) Section 18 emergency exemptions. [Reserved]

(c) Tolerances with regional registrations. [Reserved]

(d) Indirect or inadvertent residues. Tolerances are established for indirect or inadvertent residues of the plant growth regulator (hybridizing agent) clofencet, including its metabolites and degradates, in or on the commodities in the table in this paragraph. Compliance with the tolerance levels specified in this paragraph is to be determined by measuring only clofencet, potassium 2-(4-chlorophenyl)-3-ethyl-2,5-dihydro-5-oxo-4-pyridazinecarboxylate, expressed as the free acid, in or on the commodity when present therein as a result of the application of clofencet to the growing crops in paragraph (a) of this section.

Commodity | Parts per million | Expiration/ revocation date
Grain, cereal, forage, fodder and straw, group 16, except rice, sweet corn, wheat, and wild rice; forage | 4.0 | 7/14/12
Grain, cereal, forage, fodder and straw, group 16, except rice, sweet corn, wheat, and wild rice; hay | 15.0 | 7/14/12
Grain, cereal, forage, fodder and straw, group 16, except rice, sweet corn, wheat, and wild rice; stover | 1.0 | 7/14/12
Grain, cereal, forage, fodder and straw, group 16, except rice, sweet corn, wheat, and wild rice; straw | 4.0 | 7/14/12
Grain, cereal group 15, except rice, sweet corn, wheat, and wild rice | 20.0 | 7/14/12
Soybean | 30.0 | 7/14/12
Soybean, forage | 10.0 | 7/14/12
Soybean, hay | 10.0 | 7/14/12

§ 180.558 [Removed]

11. Section 180.558 is removed.

[FR Doc. 2011-23515 Filed 9-13-11; 8:45 am]

BILLING CODE 6560-50-P